DEPARTMENT OF COMMERCE

National Oceanic and Atmospheric Administration

RIN 0648-XD716

Pacific Fishery Management Council; Public Meeting; Correction

AGENCY: National Marine Fisheries Service (NMFS), National Oceanic and Atmospheric Administration (NOAA), Commerce.

ACTION: Notice of correction of a location of a public meeting.

SUMMARY: The Pacific Fishery Management Council's (Pacific Council) Highly Migratory Species Management Team (HMSMT) will hold a meeting, which is open to the public.

DATES: The HMSMT will meet Wednesday, February 4 to Friday, February 6, 2015. This meeting will start at 8:30 a.m. and continue until business is concluded on each day.

ADDRESSES: The meeting will be held at the following location on February 5th and 6th: Best Western Plus Inn by the Sea, Wind and Sea Room, 7830 Fay Avenue, La Jolla, CA 92037. The meeting will be held at the following location on February 4th only: NMFS Pacific Room, Southwest Fisheries Science Center, 8901 La Jolla Shores Dr., La Jolla, CA 92037-1509.

Council address: Pacific Council, 7700 NE Ambassador Place, Suite 101, Portland, OR 97220-1384.

FOR FURTHER INFORMATION CONTACT: Dr. Kit Dahl, Pacific Council; telephone: (503) 820-2422.

SUPPLEMENTARY INFORMATION: The meeting for February 4th only has changed to a different location due to construction of the hotel. See ADDRESSES for the meeting locations.

The original notice published in the Federal Register on January 15, 2015 (80 FR 2399). All other previous-published information remains unchanged.

Special Accommodations

The meetings are physically accessible to people with disabilities. Requests for sign language interpretation or other auxiliary aids should be directed to Mr. Kris Kleinschmidt at (503) 820-2425 at least 5 days prior to the meeting date.

Dated: January 30, 2015.
Tracey L. Thompson,
Acting Deputy Director, Office of Sustainable Fisheries, National Marine Fisheries Service.

[FR Doc. 2015-02147 Filed 2-3-15; 8:45 am]

BILLING CODE 3510-22-P